NUCLEAR REGULATORY COMMISSION

Sunshine Federal Register Notice

Agency Holding the Meetings: Nuclear Regulatory Commission.

DATES: Week of December 15, 2008.

Place: Commissioners' Conference Room, 11555 Rockville Pike, Rockville, Maryland.

Status: Public and closed.

Additional Items To Be Considered:

Week of December 15, 2008

Monday, December 15, 2008

1 p.m.

Briefing on Protection of the NRC Information Technology Infrastructure and Related Topics (Public Meeting followed by a Closed portion—Ex. 2).

The open portion of this meeting will be Web cast live at the Web address— http: //www.nrc.gov.

*The schedule for Commission meetings is subject to change on short notice. To verify the status of meetings, call (recording)—(301) 415-1292. Contact person for more information: Michelle Schroll, (301) 415-1662.

Additional Information

This meeting was previously announced as an entirely closed meeting entitled “Discussion of Management Issues (Closed—Ex. 2).” The meeting has been rescheduled as a public meeting followed by a closed session. The start time remains the same at 1 p.m. on Monday, December 15, 2008.

The NRC Commission Meeting Schedule can be found on the Internet at: http: //www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 5, 2008.
R. Michelle Schroll,
Office of the Secretary.

[FR Doc. E8-29446 Filed 12-9-08; 11:15 am]

BILLING CODE 7590-01-P